DEPARTMENT OF TRANSPORTATION

Federal Aviation Administration

14 CFR Part 71

[Airspace Docket No. 02-AEA-13]

Establishment of Class D Airspace; Rome, NY

AGENCY: Federal Aviation Administration (FAA), DOT.

ACTION: Final rule.

SUMMARY: This action establishes Class D airspace at Griffiss Airpark, Rome, NY. This action is necessary to insure continuous altitude coverage for Instrument Flight Rules (IFR) operations to the airport. The area would be depicted on aeronautical charts for pilot reference.

EFFECTIVE DATE: 0901 UTC March 20, 2003.

FOR FURTHER INFORMATION CONTACT: Mr. Francis Jordan, Airspace Specialist, Airspace Branch, AEA-520, Air Traffic Division, Eastern Region, Federal Aviation Administration, 1 Aviation Plaza, Jamaica, New York 11434-4809, telephone: (718) 553-4521.

SUPPLEMENTARY INFORMATION:

History

On September 27, 2002 a notice proposing to amend part 71 of the Federal Aviation Regulations (14 CFR part 71) by establishing Class D airspace upward from the surface to and including 3,200 feet mean sea level (MSL) at Griffiss Airpark, Rome, NY was published in the Federal Register (67 FR 61045). Interested parties were invited to participate in this rulemaking proceeding by submitting written comments on the proposal to the FAA. No comments to the proposal were received. The rule is adopted as proposed. The coordinates for this airspace docket are based on North American Datum 83. Class D airspace area designations for airspace extending upward from the surface are published in Paragraph 5000 of FAA Order 7400.9K, dated August 30, 2003 and effective September 16, 2002. The Class D airspace designation listed in this document will be published in the order.

The Rule

This amendment to part 71 of the Federal Aviation Regulations (14 CFR part 71) establishes Class D airspace from the surface of the earth to and including 3,200 feet MSL within a 4 mile radius of the airport for aircraft conducting IFR operations at Griffiss Airpark, Rome, NY.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—[AMENDED]

1. The authority citation for 14 CFR part 71 continues to read as follows:

Authority: 49 U.S.C. 106(g), 40103, 40113, 40120; EO 10854, 24 FR 9565, 3 CFR, 1959-1963 Comp., p. 389.

2. The incorporation by reference in 14 CFR 71.1 of Federal Aviation Administration Order 7400.9K, Airspace Designations and Reporting Points, dated August 30, 2002, and effective September 16, 2002, is amended as follows:

Paragraph 5000 Class D airspace areas extending upward from the surface of the earth

* * * * *

AEA NY D Rome, NY [NEW]

Griffiss Airpark, Rome, NY

(Lat. 43°14′02″ N., long. 75°24′25″ W.)

Oneida County Airport, Utica, NY

(Lat. 43°08′43″ N., long. 75°23′02″ W.)

That airspace extending upward from the surface to and including 3,200 feet MSL within a 4-mile radius of Griffiss Airpark excluding the portion within the 4.2-mile radius of Oneida County Airport Class D airspace area. This Class D airspace area is effective during the specific dates and times established in advance by Notice to Airmen. The effective date and time will thereafter be continuously published in the Airport/Facility Director.

* * * * *

Issued in Jamaica, New York on November 7, 2002.
F.D. Hatfield,
Manager, Air Traffic Division, Eastern Region.

[FR Doc. 02-29902 Filed 11-22-02; 8:45 am]

BILLING CODE 4910-13-M